DEPARTMENT OF DEFENSE

Department of the Navy

Notice of Intent To Prepare an Environmental Impact Statement for U.S. Navy F-35C West Coast Homebasing and To Announce Public Scoping Meetings

AGENCY: Department of the Navy, DoD.

ACTION: Notice.

SUMMARY: Pursuant to Section 102(2)(c) of the National Environmental Policy Act of 1969, as implemented by the Council on Environmental Quality regulations (40 Code of Federal Regulations [CFR] parts 1500-1508), the Department of the Navy (Navy) announces its intent to prepare an Environmental Impact Statement (EIS) to identify and evaluate the potential environmental consequences associated with providing facilities and functions to homebase the F-35C Joint Strike Fighter (JSF) aircraft on the West Coast of the United States. Under this proposal, a total of seven active-duty F/A-18C Hornet aircraft squadrons and one fleet replacement squadron (FRS) will progressively transition from F/A-18C Hornet aircraft to the more advanced F-35C JSF beginning in 2015. This transition will occur as a one-for-one replacement. The aging FA-18C Hornet aircraft are expected to be replaced with F-35C aircraft by 2025. The Navy will evaluate two basing options (plus a no action alternative) to efficiently and economically transition the F-35C aircraft into the fleet. This basing action is consistent with past Navy strike-fighter homebasing actions.

Dates and Addresses: Public scoping meetings are scheduled to receive oral and/or written comments on environmental concerns that should be addressed in the EIS, as follows:

1. Tuesday, February 15, 2011, at the Southwest High School, 2001 Ocotillo Drive, El Centro, CA 92243 (located in Imperial County, California).

2. Thursday, February 17, 2011, at Lemoore Senior Center, 789 South Lemoore Avenue (18th Avenue), Lemoore, CA (located in Kings County, California).

Each meeting will occur from 5 p.m. to 8 p.m. The meetings will be an open house format with informational displays and materials available for public review. The public will have an opportunity to submit written comments on environmental concerns that should be addressed in the U.S. Navy F-35C West Coast Homebasing EIS. Navy staff will be present at these open houses to answer questions.

FOR FURTHER INFORMATION CONTACT: U.S. Navy F-35C West Coast Homebasing EIS Project Manager; Naval Facilities Engineering Command, Southwest; 619-532-2799.

SUPPLEMENTARY INFORMATION: As a replacement for the Navy's aging F/A-18C Hornet aircraft, the U.S. Congress has authorized and appropriated for the procurement of F-35C JSF, the next generation strike-fighter for the Navy. The F-35C is a highly advanced, single-engine, single-seat, supersonic, multi-role strike-fighter aircraft that can operate from conventional runways and aircraft carriers and includes stealth features that makes it difficult to detect on radar. This aircraft will provide the Navy with enhanced war-fighting capabilities while achieving efficiencies in operations and support.

The proposed action would provide facilities and functions to support homebasing a total of one hundred (100) F-35C aircraft (seven squadrons of 10 aircraft each, plus up to 30 aircraft in the FRS) at the selected West Coast homebasing location. By 2025, when the program is complete, the 109 F/A-18C aircraft currently homebased at Naval Air Station (NAS) Lemoore will have been replaced with 100 F-35C aircraft.

The selected homebase installation may require some construction, facility renovations and utility upgrades in order to accommodate the new aircraft. Facility construction and modification would occur prior to and continue throughout the F-35C arrivals. The F-35C would operate within existing airspace and at existing training ranges.

The purpose of the proposed action is to replace aging Pacific Fleet FA-18C Hornet aircraft with the F-35C while meeting the aircrews' associated training and readiness requirements. The need for the proposed action is to support the Navy's Maritime Strategy by maintaining strike fighter capability in the Pacific Fleet with the more advanced F-35C.

During the initial planning process to identify suitable homebase locations for the F-35C, the Navy evaluated 134 Department of Defense installations against the operational and facilities requirements necessary to support the homebasing of the F-35C. Taking into account these requirements and the purpose of and need for the proposed action, the preliminary screening process identified two potential west coast homebasing locations: NAS Lemoore, located in Kings County, California and Naval Air Facility (NAF) El Centro, located in Imperial County, California.

In order to maximize efficiency of support facilities, simulation devices and on-site support personnel, the Navy intends to base all its west coast F-35C aircraft at one location. Accordingly, initial action alternatives to be considered are basing seven F-35C fleet squadrons and one F-35C FRS at either NAS Lemoore or NAF El Centro. Additionally, the U.S. Navy F-35C West Coast Homebasing EIS will evaluate a No Action Alternative at each of the potential homebase locations to provide a baseline for comparison and analysis of the environmental consequences associated with the basing alternatives.

No decision will be made to implement any alternative until the U.S. Navy F-35C West Coast Homebasing EIS process is completed and a Record of Decision is signed by the Assistant Secretary of the Navy (Energy, Installations and Environment) or designee.

Resource areas to be addressed in the U.S. Navy F-35C West Coast Homebasing EIS will include, but not be limited to: Air quality, noise environment, land use, socioeconomics, infrastructure and community services, natural resources, biological resources, cultural resources, safety and environmental hazards. The analysis will evaluate direct and indirect impacts, and will account for cumulative impacts from other relevant activities in the area of NAS Lemoore and NAF El Centro. Relevant and reasonable measures that could avoid or mitigate environmental effects will also be analyzed. Additionally, the Navy will undertake any consultations required by all applicable laws or regulations.

The Navy is initiating the scoping process to identify community concerns and issues that should be addressed in the U.S. Navy F-35C West Coast Homebasing EIS. Federal, state, local agencies, and interested parties and persons are encouraged to provide comments on the proposed action that clearly describe specific issues or topics of environmental concern that the commenter believes that the Navy should consider.

Public scoping comments may be submitted during the 45-day public comment period (from January 28, 2011 through March 14, 2011). All comments will receive the same attention and consideration in the preparation of the EIS. Comments may be submitted either orally or in writing at the two scheduled public scoping meetings; electronically through the project Web site at: http://www.navyf35cwestcoasteis.com; and/or may be mailed to: U.S. Navy F-35C West Coast Homebasing EIS Project Manager; Naval Facilities Engineering Command, Southwest (Code EV21/AK); 1220 Pacific Highway, Bldg. 1, San Diego, CA 92132. All public scoping comments on the U.S. Navy F-35 West Coast Homebasing EIS, both written and oral, must be submitted or postmarked no later than March 14, 2011.

Dated: January 25, 2011.
D.J. Werner,
Lieutenant Commander, Judge Advocate General's Corps, U.S. Navy, Federal Register Liaison Officer.

[FR Doc. 2011-1964 Filed 1-27-11; 8:45 am]

BILLING CODE 3810-FF-P